DEPARTMENT OF ENERGY

Federal Energy Regulatory Commission

[Docket No. CP02-155-000]

Gulf South Pipeline Company, L.P.; Notice of Application

April 23, 2002.

On April 12, 2002, Gulf South Pipeline Company (Gulf South ), 20 East Greenway, Houston, Texas 77046 filed an application in Docket No. CP02-155-000 pursuant to Section 7(c) of the Natural Gas Act (NGA), as amended, and the Federal Energy Regulatory Commission's (Commission) Rules and Regulations, an application for the following: (i) a certificate of public convenience and necessity and all other necessary authorizations and waivers for Gulf South to lease, develop, construct, operate, and maintain certain natural gas storage and related facilities at the Napoleonville salt dome in Assumption, Parish, Louisiana for the purpose of injecting, storing, and withdrawing natural gas in interstate commerce (collectively referred to as the “Magnolia Gas Storage Facility”), (ii) authorization for offer firm storage services under a new Rate Schedule FSS-M, (iii) authorization to offer storage services from the Magnolia Gas Storage Facility at market-based rates and, (iv) a grant of such other authorizations and waivers as may be necessary, all as more throughly described in the application on file with the Commission and open to public inspection. This filing may be viewed on the web at http://www.ferc.gov using the “RIMS” link, select “Docket #” and follow the instructions (call (202)208-2222 for assistance).

Gulf South respectfully requests that the Commission issue a certificate of public convenience and necessity and all other necessary authorizations and waivers on or before October 17, 2002. Issuance of a certificate by that data will enable Gulf South to commence construction of those compressor station facilities, pipelines, and related facilities necessary to place the two existing natural gas storage caverns (hereinafter, “Wells 13/14”) in service on or about October 1, 2003.

Any questions regarding this application should be directed to J. Kyle Stephens, Director of Certificates, Gulf South Pipeline Company, LP, 20 East Greenway Plaza, Houston, Texas, 77046, phone: (713) 544-7309, fax: (713) 544-4818, email: Kyle.stephens@gulfsouthpl.com.

Specifically, Gulf South proposes to lease Well 13/14 from Dow Hydrocarbons and Resources, Inc. (“Dow”) which are located on Dow”s property in Assumption Parish, Louisiana, and construct and operate the compression facilities, pipelines, and related facilities necessary to connect Wells 13/14 to Gulf South's existing transmission system. Wells 13/14 have a maximum capacity of approximately 8 Bcf, comprising 4.1 Bcf of working and 3.1 Bcf of cushion gas capacity. Wells 13/14 will have approximately 200 MMcf per day of injection and 400 MMcf per day of withdrawal capability. Gulf South proposes to integrate Wells 13/14 with its existing interstate pipeline system through the construction and operation of (1) approximately 1.63 miles of 24-inch and 2.07 miles of 30-inch natural gas pipeline, (2) approximately 9,470 horsepower of compression, related piping, valves, controls, and buildings, (3) dehydration facilities, other appurtenant, auxiliary facilities, and (4) two bidirectional metering stations and one regulating station.

Gulf South also proposes to drill, mine, and operate a new natural gas salt dome storage well and to construct, and operate the associated piping facilities (“Gulf South No. 1”). Gulf South No. 1 will have a proposed capacity of 10.5 Bcf, consisting of up to 6.5 Bcf of working and 4.5 Bcf cushion gas capacity. Gulf South No. 1 will have approximately 600 MMcf per day withdrawal capacity and 300 MMcf per day injection capability. The facilities related to Gulf South No.1 include the (1) well pad and access road, (2) wellhead facilities (including casing), (3) raw mining water supply and brine return system, and (4) the ethane/propane pad supply system.

Gulf South proposes to provide firm storage service from the Magnolia Gas Storage Facility, under a new Rate Schedule FSS-M, This rate schedule will be developed based upon the operational characteristics of Well 13/14. Gulf South also proposes to provide interruptible storage service from the Magnolia Gas Storage Facility under its current Rate Schedule ISS. Gulf South proposes to charge market-base rates for all storage services offered under both Rate Schedule FSS-M and Gulf South's existing Rate Schedule ISS.

Gulf South requests that the Commission waive compliance with the Section 157.14 requirements to submit Exhibits I, K, L, N, and O, to the extent necessary, with the instant application because Gulf South meets the Commission's criteria for market-base rates and seeks to continue charging market-based rates.

There are two ways to become involved in the Commission's review of this project. First, any person wishing to obtain legal status by becoming a party to the proceedings for this project should, on or before May 14, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-10434 Filed 4-26-02; 8:45 am]

BILLING CODE 6717-01-P